DEPARTMENT OF DEFENSE

Department of the Army

Department of the Army; Corps of Engineers

Availability of a Draft Supplemental Environmental Impact Statement/Environmental Impact Report for the Hamilton Wetland Restoration Project, Dredged Material Aquatic Transfer Facility in Marin County, CA

AGENCY: Department of the Army, U.S. Army Corps of Engineers, DoD.

ACTION: Notice.

SUMMARY: The U.S. Army Corps of Engineers (USACE) and California State Coastal Conservancy (Conservancy), in collaboration with the Long Term Management Strategy for Dredged Material in San Francisco Bay (LTMS) agencies, are proposing the use of an aquatic transfer facility (ATF) to beneficially use dredged material in restoring tidal wetlands at the original Hamilton Wetland Restoration Project site and the Bel Marin Keys Unit V Expansion site (collectively, the HWRP). The USACE is the lead agency for this project under the National Environmental Policy Act (NEPA). The Conservancy is the lead agency for this project under the California Environmental Quality Act (CEQA).

DATES: Submit comments by: December 1, 2008.

ADDRESSES: Written comments about the proposed action and ATF SEIS/EIR can be addressed to: Cynthia Fowler or Fari Tabatabai, U.S. Army Corps of Engineers, San Francisco District, 1455 Market Street, San Francisco, CA 94103; cespn-et-pa@usace.army.mil; 415-503-6870. Tom Gandesbery, California State Coastal Conservancy, 1330 Broadway, 13th Floor, Oakland, CA 94612; tgandesbery@scc.ca.gov; (510) 286-1015.

FOR FURTHER INFORMATION CONTACT: Cynthia Fowler or Fari Tabatabai, U.S. Army Corps of Engineers, San Francisco District, 1455 Market Street, San Francisco, CA 94103; cespn-et-pa@usace.army.mil; 415-503-6870. Betsy Wilson or Tom Gandesbery, California State Coastal Conservancy, 1330 Broadway, 13th Floor, Oakland, CA 94612; bwilson@scc.ca.gov or tgandesbery@scc.ca.gov; (510) 286-1015.

SUPPLEMENTARY INFORMATION: This document is a Supplemental Environmental Impact Statement/Environmental Impact Report (SEIS/EIR) to the 1998 HWRP Final EIS/EIR, the 2003 Bel Marin Keys Unit V Expansion (BMKV) Final SEIS/EIR, and the 2006 Supplemental Environmental Assessment (EA) to the Oakland Harbor Navigation Improvement (−50 ft.) Project Final EIS/EIR. The HWRP Final EIS/EIR and the BMKV Expansion Final SEIS/EIR can be found at: http://www.hamiltonwetlands.org/documents.html. As described in these previous reports, the authorized means of transporting dredged material to the HWRP is via a hydraulic off-loader in San Pablo Bay that pumps dredged material to the site through a submerged pipeline. Independent review, workshops with national experts, and a value engineering study that considered economic and operational effects determined that a more efficient and flexible method of transferring dredged material should be evaluated. Therefore, the Hamilton Wetland Restoration Project Dredged Material Aquatic Transfer Facility SEIS/EIR (ATF SEIS/R) evaluates alternative methods for the transfer of dredged material to the HWRP site. The ATF SEIS/EIR will support decision making by USACE, the Conservancy, and other responsible agencies to implement the proposed action and to ensure compliance with the NEPA, CEQA, and other pertinent laws and regulations.

The purpose of the proposed ATF is to maximize the operational flexibility of the HWRP to accommodate dredged material from both large and small dredging projects, as well as maximize the potential for beneficial use of dredged material at the HWRP site. Four alternatives are analyzed in this document: Alternative 1: No Action, which includes the authorized use of a hydraulic off-loader; Alternative 2: Unconfined ATF (Proposed Action); Alternative 3: Confined ATF; and Alternative 4: Direct Channel to BMKV Basin. Alternative 1 would include a floating and pile-secured off-loader facility, while Alternatives 2 and 3 would include construction of an in-Bay ATF basin. Alternative 3 would include incorporation of a structural enclosure around the perimeter of the ATF basin. Three of the alternatives (1-3) would require a slurry delivery pipeline and associated booster pump platform to transport material. Alternative 4 would involve dredging a direct channel from the vicinity of the in-Bay disposal site, SF-10, to the BMKV site and construction of a transfer basin on the BMKV site.

A public meeting will be held on Wednesday, November 12, 2008 from 5:30-7:30 p.m. at the Bay Model Visitor Center, Multi-Purpose Room, 2100 Bridgeway, Sausalito, CA.

The Hamilton Wetland Restoration Project Dredged Material Aquatic Transfer Facility SEIS/EIR is available for review at http://www.hamiltonwetlands.org. Copies of the document are also available for review during normal business hours at:

(1) Marin Civic Center, 3051 Civic Center Drive #427, San Rafael, CA 94903.

(2) Marin County Free Library—South Novato, 476 Ignacio Boulevard, Novato, CA 94949.

(3) Novato Public Library, 1720 Novato Boulevard, Novato, CA 94947.

(4) Petaluma Regional Library, 100 Fairgrounds Drive, Petaluma, CA 94952.

(5) Sonoma County Central Library, 3rd and E Street, Santa Rosa, CA 95402.

(6) California State Coastal Conservancy, 1330 Broadway, 13th Floor, Oakland, CA 94612.

Dated: October 10, 2008.
Laurence M. Farrell,
Lieutenant Colonel, U.S. Army, Commanding.

[FR Doc. E8-24848 Filed 10-17-08; 8:45 am]

BILLING CODE 3710-19-P